FEDERAL COMMUNICATIONS COMMISSION

[Report No. 2653]

Petitions for Reconsideration and Clarification of Action in Rulemaking Proceedings

April 1, 2004.

Petitions for Reconsideration and Clarification have been filed in the Commission's Rulemaking proceedings listed in this Public Notice. The full text of this document is available for viewing and copying in Room CY-A257, 445 12th Street, SW., Washington, DC or may be purchased from the Commission's copy contractor, Qualex International (202) 863-2893. Oppositions to these petitions must be filed by April 27, 2004. See § 1.4(b)(1) of the Commission's rules (47 CFR 1.4(b)(1)). Replies to an opposition must be filed within 10 days after the time for filing oppositions have expired.

Subject: In the Matter of Revisions of Part 2 and 15 of the Commission's Rules to Permit Unlicensed National Information Infrastructure (U-NII) Devices in the 5 GHz Band (ET Docket No. 03-122).

Number of Petitions Filed: 3.

Marlene H. Dortch,
Secretary.

[FR Doc. 04-8242 Filed 4-9-04; 8:45 am]

BILLING CODE 6712-01-M